DEPARTMENT OF DEFENSE

Department of the Army

Proposed Collection; Comment Request

AGENCY: Department of the Army, DoD.

ACTION: Notice.

SUMMARY: In compliance with Section 3506(c)(2)(A) of the Paperwork Reduction Act of 1995, the Department of the Army announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments receive by March 15, 2004.

ADDRESSES: Written comments and recommendations on the proposed information collection should be sent to Department of the Army, Military Traffic Management Command, 200 Stovall Street, Alexandria, VA 22332-5000, ATTN: MTPP-S (Ben Jozwiak). Consideration will be given to all comments received within 60 days of the date of publication of this notice.

FOR FURTHER INFORMATION CONTACT: To request more information on this proposed information collection or to obtain a copy of the proposal and associated collection instruments, please write to the above address, or call Department of the Army Reports Clearance Officer at (703) 325-8433.

Title, Associated Form, and OMB Number: Uniform Tender of Rates and/or Charges for Domestic Transportation Services (DoD/USCG Sponsored Household Goods, MT Form 43-R, OMB Control Number 0702-0018.

Needs and Uses: Department of Defense approved household goods carriers files rate to engage in the movement of DoD and United States Coast Guard sponsored shipments within the continental United States. Headquarters, Military Traffic Management Command evaluates the rates and awards the traffic to low rate responsible carriers whose rates are responsive and most advantageous to the Government.

Affected Public: Business or other for-profit.

Annual Burden Hours: 3,160.

Number of Respondents: 1,580.

Responses per Respondent: 1.

Average Burden per Response: 30 minutes.

Frequency: Semi-annually.

SUPPLEMENTARY INFORMATION: The method MTMC uses to procure rates for domestic personal property shipments is the voluntary submission by carriers during two intrastate filing cycles each year, May 1 to October 31 and November 1 to April 30. Historically, carriers file higher rates in the winter cycle. By accepting rates in two cycles the Government experiences lower costs during the summer months for the same services. If rates were filed less frequently, shipments would move at higher costs.

Luz D. Ortiz,
Army Federal Register Liaison Officer.

[FR Doc. 04-823 Filed 1-13-04; 8:45 am]

BILLING CODE 3710-08-M